ENVIRONMENTAL PROTECTION AGENCY

[ER-FRL-6687-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in the Federal Register dated April 6, 2007 (72 FR 17156).

Draft EISs

EIS No. 20070003, ERP No. D-AFS-L65530-AK, Tongass Land and Resource Management Plan, Plan Amendment, Implementation, Tongass National Forest, AK.

Summary: EPA expressed environmental concerns about impacts to water quality and aquatic and terrestrial habitats. Rating EC2.

EIS No. 20070019, ERP No. D-FHW-G40192-TX, Grand Parkway/State Highway 99 Improvement Project, Segment G, from Interstate Highway (IH) 45 to US 59, Funding, Right-of-Way Grant, U.S. Army COE Section 404 Permit, Harris and Montgomery Counties, TX.

Summary: EPA expressed environmental concerns about impacts to wetlands, streams, and air quality. Rating EC2.

EIS No. 20070067, ERP No. D-SFW-C64004-PR, Vieques National Wildlife Refuge Comprehensive Conservation Plan, Implementation, Vieques, PR.

Summary: EPA has no objection to the proposed management plan for restoration and operation of new refuge on Vieques, PR. Rating LO.

EIS No. 20070073, ERP No. D-IBR-K39106-00, Colorado River Interim Guidelines for Lower Basin Shortages and Coordinated Operations for Lake Powell and Lake Mead, Implementation, Colorado River, CO and CA.

Summary EPA expressed environmental concerns about adverse impacts of reduced water availability on beneficial uses and the need for additional information on the effects of climate change, banking of conserved water, and monitoring. Rating EC2.

EIS No. 20060539, ERP No. DE-AFS-L65155-00, Northern Spotted Owl Management Plan, Removal or the Modification to the Survey and Manage Mitigation Measures, Standards and Guidelines (to the Northwest Forest Plan), Addresses the Effects of an Additional No-Action Alternative to the (July 2006) Draft Supplement and to the (2004) Final Supplemental EIS, Northwest Forest Plan, OR, WA, and CA.

Summary: EPA has no objection to the proposed project. Rating LO.

EIS No. 20070098, ERP No. DS-AFS-J65417-MT, Frenchtown Face Ecosystem Restoration Project, Additional Information Maintenance and Improvement of Forest Health, Risk Reduction of Damage Insects and Disease, Lolo National Forest, Ninemile Ranger District, Missoula, MT.

Summary: While EPA expressed environmental concerns about short-term effects to 303(d) listed waters, we believe that watershed restoration activities included in the project would likely result in overall water quality improvement in the long-term. Rating EC2.

EIS No. 20070129, ERP No. DS-NOA-A91061-00, Atlantic Mackerel, Squid and Butterfish, Fishery Management Plan, Amendment #9, Implementation, Essential Fish Habitat (EFH), Exclusive Economic Zone(EEZ).

Summary: EPA has no objection to the proposed action. Rating LO.

Final EISs

EIS No. 20070035, ERP No. F-RUS-J03019-MT, Highwood Generating Station, 250-megawatt Coal Fired Power Plant and 6MW of Wind Generation at a Site near Great Falls, Construction and Operation, Licenses Permit, U.S. Army COE Section 10 Permit, Cascade County, MT.

Summary: EPA expressed environmental concerns about the potential for visibility impairment to Class I wilderness areas, and recommended the implementation of mitigation to reduce visibility impairments.

EIS No. 20070100, ERP No. F-AFS-J65448-UT, West Bear Vegetation Management Project, Timber Harvesting, Prescribed Burning, Roads Construction, Township 1 North, Range 9 East, Salt Lake Principle Meridian, Evanston Ranger District, Wasatch-Cache National Forest, Summit County, UT.

Summary: EPA continues to express concern about the need for an effective environmental impact monitoring plan and an adaptive management program.

EIS No. 20070107, ERP No. F-USA-G15000-TX, Fort Sam Houston, Texas Project, Base Realignment and Closure (BRAC) Actions and Other Transformation Activities, Implementation, City of San Antonio, TX.

Summary: No formal comment letter was sent to the preparing agency.

EIS No. 20070108, ERP No. F-AFS-L65519-AK, Scratchings Timber Sale Project, Timber Harvest up to Approximately 42 Million Board Feet, Suemez Island, Craig Ranger District, Tongass National Forest, AK.

Summary: EPA continues to express environmental concerns about the potential for cumulative adverse impacts on water quality and high quality salmon fisheries, as well as additional impacts to the Dolores watershed.

EIS No. 20070110, ERP No. F-FHW-F40432-MN, Trunk Highway 23 Improvements Project, From 0.25 Miles West of CSAH 6 in Kandiyohi County to 0.3 Miles Southwest of CSAH 123 Stearns County, City of Paynesville, Kandiyohi and Stearns Counties, MN.

Summary: EPA has environmental concerns about impacts to public drinking water supply wells and the lack of specific mitigation commitments. EPA recommends the ROD provides firm mitigation commitments.

EIS No. 20070118, ERP No. F-IBR-K36146-CA, Folsom Dam Safety and Flood Damage Reduction Project, Addressing Hydrologic, Seismic, Static, and Flood Management Issues, Sacramento, El Dorado, and Placer Counties, CA.

Summary: EPA continues to express environmental concern about potential water quality impacts from future actions associated with this project.

EIS No. 20070127, ERP No. F-NPS-C80015-00, Ellis Island and Statue of Liberty National Monument Development Concept Plan, Long-Term Rehabilitation and Reuse for Historic Buildings, Implementation, New York Harbor, NY and NJ.

Summary: EPA does not anticipate that implementation of the preferred alternative will result in significant adverse impacts to the environment.

EIS No. 20070138, ERP No. F-NPS-F61023-OH, Dayton Aviation Heritage National Historical Park, General Management Plan Amendment, Implementation, Dayton, OH.

Summary: EPA's previous issues have been resolved; therefore, EPA does not object to the proposed action.

EIS No. 20070102, ERP No. FS-COE-G11035-00, PROGRAMMATIC—Fort Bliss Texas and New Mexico Mission and Master Plan, To Modify Current Land Use, EL Paso, TX and Dona Ana and Otero Counties, NM.

Summary: No formal comment letter was sent to the preparing agency.

EIS No. 20070167, ERP No. FS-AFS-F65047-IN, German Ridge Restoration Project, New Information on 2006 Land and Resource Management Plan and on the Inadequate Effects Analysis, Implementation, Hoosier National Forest, Tell City Ranger District, Perry County, IN.

Summary: EPA's previous issues have been resolved; therefore, EPA does not object to the proposed action.

Dated: May 15, 2007.
Ken Mittelholtz,
Environmental Protection Specialist, Office of Federal Activities.

[FR Doc. E7-9589 Filed 5-17-07; 8:45 am]

BILLING CODE 6560-50-P